DEPARTMENT OF COMMERCE

Foreign-Trade Zones Board

[Order No. 1641]

Expansion of Foreign-Trade Zone 57, Charlotte, North Carolina, Area

Pursuant to its authority under the Foreign-Trade Zones Act of June 18, 1934, as amended (19 U.S.C. 81a-81u), the Foreign-Trade Zones Board (the Board) adopts the following Order:

Whereas, the North Carolina Department of Commerce, grantee of Foreign-Trade Zone 57, submitted an application to the Board for authority to expand its zone to include an additional site (Site 16) in the Charlotte, North Carolina area, adjacent to the Charlotte Customs and Border Protection port of entry (FTZ Docket 62-2008, filed 10/28/08);

Whereas, notice inviting public comment was given in the Federal Register (73 FR 65583, 11/4/08), and the application has been processed pursuant to the FTZ Act and the Board's regulations;

Whereas, on April 24, 2009, the grant of authority was reissued to the Charlotte Regional Partnership, Inc. (Board Order 1613, 74 FR 21622, 05/8/09); and,

Whereas, the Board adopts the findings and recommendations of the examiner's report, and finds that the requirements of the FTZ Act and Board's regulations are satisfied, and that the proposal is in the public interest;

Now, therefore, the Board hereby orders:

The application to expand FTZ 57 is approved, subject to the FTZ Act and the Board's regulations, including Section 400.28, and subject to a sunset provision that would terminate authority for Site 16 on August 31, 2014, if no activity has occurred under FTZ procedures before that date.

Signed at Washington, DC, this 5th day of August 2009.

Ronald K. Lorentzen,
Acting Assistant Secretary of Commerce for Import Administration, Alternate Chairman, Foreign-Trade Zones Board.
Attest:
Andrew McGilvray,
Executive Secretary.

[FR Doc. E9-19676 Filed 8-14-09; 8:45 am]

BILLING CODE 3510-DS-S